NUCLEAR REGULATORY COMMISSION

10 CFR Part 61

[NRC-2011-0012]

RIN 3150-AI92

Low-Level Waste Disposal

AGENCY: Nuclear Regulatory Commission.

ACTION: Regulatory basis and preliminary rule language; second request for comment.

SUMMARY: The U.S. Nuclear Regulatory Commission (NRC) is proposing to amend its regulations that govern low-level radioactive waste (LLRW) disposal facilities to require new and revised site-specific analyses and to permit the development of criteria for waste acceptance based on the results of these analyses. These amendments will ensure that waste streams that are significantly different in terms of radiological characteristics (e.g., half-life) from those considered in the technical basis for the current regulations can be disposed of safely and meet the performance objectives for land disposal of LLRW. These amendments will also increase the use of site-specific information to ensure that public health and safety would continue to be protected.

The NRC is publishing a second version of preliminary rule language and has revised the regulatory basis document that will support this rulemaking. NRC is taking this action to inform interested stakeholders of the current status of the NRC's activities and to solicit public comments on the preliminary rule language. The regulatory basis document is being made available to inform stakeholder comments on the preliminary rule language. The NRC is not requesting comments on the regulatory basis.

DATES: Comments on the preliminary rule language should be submitted no later than January 7, 2013. Comments received after this date will be considered if it is practical to do so, but the NRC is able to assure consideration only for comments received on or before this date.

ADDRESSES: You may access information and comment submissions related to this preliminary rule language, which the NRC possesses and are publicly available, by searching on http://www.regulations.gov under Docket ID NRC-2011-0012. You may submit comments by any of the following methods:

• Federal Rulemaking Web site: Go to http://www.regulations.gov and search for documents filed under Docket ID NRC-2011-0012. Address questions about NRC dockets to Carol Gallagher; telephone: 301-492-3668; email: Carol.Gallagher@nrc.gov.

• Mail comments to: Secretary, U.S. Nuclear Regulatory Commission, Washington, DC 20555-0001, ATTN: Rulemakings and Adjudications Staff.

• Email comments to: Rulemaking.Comments@nrc.gov. If you do not receive a reply email confirming that we have received your comments, contact us directly at 301-415-1677.

• Fax comments to: Secretary, U.S. Nuclear Regulatory Commission at 301-415-1101.

For additional direction on accessing information and submitting comments, see “Accessing Information and Submitting Comments” in the SUPPLEMENTARY INFORMATION section of this document.

FOR FURTHER INFORMATION CONTACT: Andrew Carrera, Office of Federal and State Materials and Environmental Management Programs, U.S. Nuclear Regulatory Commission, Washington, DC 20555-0001, telephone 301-415-1078, email Andrew.Carrera@nrc.gov.

SUPPLEMENTARY INFORMATION:

I. Accessing Information and Submitting Comments

A. Accessing Information

Please refer to Docket ID NRC-2011-0012 when contacting the NRC about the availability of information for this document. You may access information related to this document, which the NRC possesses and are publicly available, by any of the following methods:

• Federal Rulemaking Web site: Go to http://www.regulations.gov and search for Docket ID NRC-2011-0012.

• NRC's Public Document Room (PDR): You may examine and purchase copies of public documents at the NRC's PDR, Room O1-F21, One White Flint North, 11555 Rockville Pike, Rockville, Maryland 20852.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice is provided the first time that a document is referenced.

The November 2012 preliminary rule language is available electronically under ADAMS Accession Number ML12311A444. The regulatory basis document, “Regulatory Analysis for Proposed Revisions to Low-Level Waste Disposal Requirement (10 CFR Part 61),” that supports this rulemaking is available under ADAMS accession number ML12306A480.

B. Submitting Comments

Please include Docket ID NRC-2011-0012 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submissions. Your request should state that the NRC does not routinely edit comment submissions to remove such information before making the comment submissions available to the public or entering the comment submissions into ADAMS.

II. Discussion

The NRC is proposing to amend its regulations, in part 61 Title 10 of the Code of Federal Regulations (10 CFR), “Licensing Requirements for Land Disposal of Radioactive Waste,” to require new and revised site-specific analyses and to permit the development of criteria for waste acceptance based on the results of these analyses. These amendments will ensure that waste streams that are significantly different in terms of radiological characteristics (e.g., half-life) from those considered in the technical basis for the current regulations can be disposed of safely and meet the performance objectives. These amendments will also increase the use of site-specific information to ensure that public health and safety would continue to be protected. These changes would revise the existing site-specific analysis for protection of the general population to include a 10,000-year compliance period (i.e., performance assessment); add a new site-specific analysis for the protection of inadvertent intruders that would include a 10,000-year compliance period and a dose limit (i.e., intruder assessment); add a new long-term analysis for certain long-lived wastes that would include a post-10,000-year performance period; and revise the pre-closure analysis to include updates to the performance assessment, intruder assessment, and long-term analyses. The NRC would also be adding a new requirement to develop criteria for the acceptance of waste for disposal based on either the results of these analyses or the existing waste classification requirements. While the existing regulatory requirements are adequate to protect public health and safety, these amendments would enhance the safe disposal of LLRW. The NRC is also proposing additional changes to the regulations for disposal licensees to reduce ambiguity, facilitate implementation, and better align the requirements with current health and safety standards. This rule would affect LLRW disposal facilities that are regulated by the NRC or the Agreement States.

In May, 2011, the NRC published preliminary rule language (76 FR 24831) and the associated regulatory basis document for public comment. Since then, the NRC staff received additional directions from the Commission in a Staff Requirements Memorandum to COMWDM-11-0002/COMGEA-11-0002 (ADAMS accession number ML120190360). The Commission directed staff to expand the limited-scope revision regarding site-specific analyses to bring a clearer, risk-informed approach to Part 61. Based on the Commission's direction, the NRC staff revised the regulatory basis document associated with this rulemaking and developed a second (November 2012) version of the preliminary rule language.

The NRC is inviting stakeholders to comment on the November 2012 preliminary rule language. The NRC is publishing the November 2012 preliminary rule language and its associated regulatory basis to provide increased awareness to interested stakeholders, inform stakeholders of the current status of the NRC's activities, and solicit public comments on the November 2012 preliminary rule language. The November 2012 preliminary rule language and its associated regulatory basis document supercede the May 2011 versions.

The NRC will review and consider any comments on the November 2012 preliminary rule language received by January 7, 2013. Comments received after this date will be considered if it is practical to do so, but the NRC is able to assure consideration only for comments received on or before this date. Stakeholders will have additional opportunity to comment on the proposed rule when it is published in accordance with the provisions of the Administrative Procedures Act. The NRC will respond to all stakeholder comments in the Statements of Consideration for the final rule.

The NRC may post updates to the preliminary rule language on the Federal rulemaking Web site under Docket ID NRC-2011-0012. The Regulations.gov Web site allows members of the public to set-up email alerts so that they may be notified when documents are added to a docket. Users are notified via email at an email address provided at the time of registration for the notification. Directions for signing up for the email alerts can be found at http://www.regulations.gov. To do so, navigate to a docket folder you are interested in and then click the “Sign up for Email Alerts” link.

Dated at Rockville, Maryland, this 30th day of November, 2012.
For the Nuclear Regulatory Commission.
Deborah Jackson,
Deputy Director, Division of Intergovernmental Liaison and Rulemaking, Office of Federal and State Materials and Environmental Management Programs.

[FR Doc. 2012-29527 Filed 12-6-12; 8:45 am]

BILLING CODE 7590-01-P